DEPARTMENT OF JUSTICE

Office of Justice Programs

[OMB Number 1121-0321]

Agency Information Collection Activities; Proposed eCollection eComments Requested; Revision of a Currently Approved Collection

AGENCY: Office of Justice Programs, Department of Justice.

ACTION: 30 Day notice.

SUMMARY: The Department of Justice, Office of Justice Programs, National Institute of Justice, is submitting the following information collection request to the Office of Management and Budget (OMB) for review and approval in accordance with the Paperwork Reduction Act of 1995.

DATES: The Department of Justice encourages public comment and will accept input until February 14, 2020.

FOR FURTHER INFORMATION CONTACT: If you have additional comments especially on the estimated public burden or associated response time, suggestions, or need a copy of the proposed information collection instrument with instructions or additional information, please contact Mark Greene, Technology and Standards Division Director, National Institute of Justice, 810 7th Street NW, Washington, DC 20531, mark.greene2@usdoj.gov, 202-307-3384. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the National Institute of Justice, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Revision of a Currently Approved Collection.

2. The Title of the Form/Collection: National Institute of Justice Compliance Testing Program (NIJ CTP). This collection consists of eight forms: NIJ CTP Applicant Agreement; NIJ CTP Authorized Representatives Notification; NIJ CTP Electronic Signature Agreement; NIJ CTP Body Armor Build Sheet; NIJ CTP Body Armor Agreement; NIJ CTP Manufacturing Location Notification; NIJ CTP Multiple Listee Notification; NIJ Approved Laboratory Application and Agreement.

3. The agency form number, if any, and the applicable component of the Department sponsoring the collection: There is no agency form number for this collection. The applicable component within the Department of Justice is the National Institute of Justice, Office of Justice Programs.

4. Affected public who will be asked or required to respond, as well as a brief abstract: Applicants to the NIJ Compliance Testing Program and Testing Laboratories, which are businesses or other for-profit organizations. The purpose of the voluntary NIJ Compliance Testing Program is to provide confidence that equipment used for law enforcement and corrections applications meets minimum published performance requirements. One type of equipment is ballistic body armor. Ballistic body armor models that are determined to meet minimum requirements by NIJ and listed on the NIJ Compliant Products List are eligible for reimbursement through the Ballistic Vest Partnership.

5. An estimate of the total number of respondents and the amount of time estimated for an average respondent to respond: As of December 31, 2018, approximately 1,250 unique ballistic armor models have been submitted to the NIJ CTP by approximately 300 companies for compliance testing since OMB Number 1121-0321 was issued in 2009. Approximately one third of the companies that submitted armor are not based in the U.S., however only U.S. companies will be considered for the purpose of estimating the burden on the public. Therefore, a total of 200 responses is estimated for the following three forms over several years:

NIJ CTP Applicant Agreement: Estimated 100 responses at 15 minutes every year (and 50 responses per year after that);

NIJ CTP Authorized Representatives Notification: Estimated 100 responses at 15 minutes every year (and 50 responses per year after that);

NIJ CTP Electronic Signature Agreement: Estimated 100 responses at 15 minutes every year (and 50 responses per year after that).

Each time a new armor model is submitted to the NIJ CTP for testing, the following four forms must be completed. Respondents may submit as many armor models as they choose to the NIJ CTP and are therefore not limited to only one response. The number of overall submissions over the past decade roughly translates to 125 unique ballistic armor models tested per year. A fraction of those armors are submitted by companies not based in the U.S., however only U.S. companies will be considered for the purpose of estimating the burden on the public. Therefore, a total of 100 responses is estimated for the following four forms per year:

NIJ CTP Body Armor Agreement: Estimated 100 responses at 15 minutes every year;

NIJ CTP Body Armor Build Sheet: Estimated 100 responses at 2 hours every year;

NIJ CTP Manufacturing Location Notification: Estimated 100 responses at 15 minutes each every year;

NIJ CTP Listee Notification: Estimated 100 responses at 15 minutes every year; Testing laboratories provide responses to the laboratory agreement form and are therefore considered respondents in this case. There are currently four laboratories that participate in the NIJ CTP, which renew their status with the NIJ CTP roughly every two years.

NIJ Approved Laboratory Application and Agreement: Estimated 4 responses at 8 hours every two years, or a total of 16 hours on average per year.

6. An estimate of the total public burden (in hours) associated with the collection: 366 hours the first year and 328.5 hours per year in subsequent years.

If additional information is required contact: Melody Braswell, Department Clearance Officer, United States Department of Justice, Justice Management Division, Policy and Planning Staff, Two Constitution Square, 145 N Street NE, 3E.405A, Washington, DC 20530.

Dated: January 10, 2020.
Melody Braswell,
Department Clearance Officer for PRA, U.S. Department of Justice.

[FR Doc. 2020-00526 Filed 1-14-20; 8:45 am]

BILLING CODE 4410-AT-P